DEPARTMENT OF TRANSPORTATION

Federal Aviation Administration

14 CFR Part 39

[Docket No. FAA-2018-0704; Product Identifier 2018-NM-066-AD]

RIN 2120-AA64

Airworthiness Directives; Airbus SAS Airplanes

AGENCY: Federal Aviation Administration (FAA), DOT.

ACTION: Notice of proposed rulemaking (NPRM).

SUMMARY: We propose to adopt a new airworthiness directive (AD) for all Airbus SAS Model A330-200 Freighter, -200 and -300 series airplanes; and Airbus SAS Model A340-200, -300, -500, and -600 series airplanes. This proposed AD was prompted by reports of depressurization of hydraulic reservoirs caused by air leakage from the pressure relief valve (PRV) of the hydraulic reservoir (HR) due to the extrusion of the O-ring seal from certain HR PRVs. This proposed AD would require identifying the part number of the HR, and replacing and re-identifying affected HR PRVs. We are proposing this AD to address the unsafe condition on these products.

DATES: We must receive comments on this proposed AD by September 17, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Airbus SAS, Airworthiness Office—EAL, Rond Point Emile Dewoitine No: 2, 31700 Blagnac Cedex, France; telephone: +33 5 61 93 36 96; fax: +33 5 61 93 45 80; email: airworthiness.A330-A340@airbus.com; internet http://www.airbus.com. You may view this service information at the FAA, Transport Standards Branch, 2200 South 216th St., Des Moines, WA. For information on the availability of this material at the FAA, call 206-231-3195.

Examining the AD Docket

You may examine the AD docket on the internet at http://www.regulations.gov by searching for and locating Docket No. FAA-2018-0704; or in person at Docket Operations between 9 a.m. and 5 p.m., Monday through Friday, except Federal holidays. The AD docket contains this NPRM, the regulatory evaluation, any comments received, and other information. The street address for Docket Operations (phone: 800-647-5527) is in the ADDRESSES section. Comments will be available in the AD docket shortly after receipt.

FOR FURTHER INFORMATION CONTACT: Vladimir Ulyanov, Aerospace Engineer, International Section, Transport Standards Branch, FAA, 2200 South 216th St., Des Moines, WA 98198; telephone and fax: 206-231-3229.

SUPPLEMENTARY INFORMATION:

Comments Invited

We invite you to send any written relevant data, views, or arguments about this proposal. Send your comments to an address listed under the ADDRESSES section. Include “Docket No. FAA-2018-0704; Product Identifier 2018-NM-066-AD” at the beginning of your comments. We specifically invite comments on the overall regulatory, economic, environmental, and energy aspects of this NPRM. We will consider all comments received by the closing date and may amend this NPRM because of those comments.

We will post all comments we receive, without change, to http://www.regulations.gov, including any personal information you provide. We will also post a report summarizing each substantive verbal contact we receive about this NPRM.

Discussion

The European Aviation Safety Agency (EASA), which is the Technical Agent for the Member States of the European Union, has issued EASA Airworthiness Directive 2018-0064, dated March 23, 2018 (referred to after this as the Mandatory Continuing Airworthiness Information, or “the MCAI”), to correct an unsafe condition for all Airbus SAS Model A330-200 Freighter, -200 and -300 series airplanes; and Airbus SAS Model A340-200, -300, -500, and -600 series airplanes. The MCAI states:

Some events of depressurisation of hydraulic reservoirs have been reported, due to air leakage from the HR PRV [hydraulic reservoir pressure relief valve]. The results of the investigations revealed that the air leakage was due to the extrusion of the O-ring seal from the HR PRV. This may have happened during HR maintenance, testing or during flight, if HR over-filling was performed, as a result of which hydraulic fluid could pass through the PRV, causing [the] PRV seal to migrate from its nominal position, leading to loss of HR pressurisation.

This condition, if not detected and corrected, could lead to the loss of one or more hydraulic systems, possibly resulting in loss of control of the aeroplane.

To address this potential unsafe condition, Airbus issued the AOT [Alert Operators Transmission (AOT) A29L005-16, dated January 28, 2016] to provide instructions to inspect the HR fluid level of each hydraulic circuit and to provide instructions for certain actions when servicing with hydraulic fluid is accomplished on an HR. Consequently, EASA published AD 2016-0107 [related FAA AD 2017-01-08, Amendment 39-18775 (82 FR 1593, January 6, 2017) (“2017-01-08”)] to require accomplishment of these actions for aeroplanes in service.

Since that [EASA] AD was issued, it was determined that the detected air leakage was due to the extrusion of the O-ring seal from a specific batch of HR PRV. Airbus published the applicable inspection SB [service bulletin] to inspect the HR of each hydraulic circuit and to provide instructions to identify the affected parts, and the Modification SB to provide instructions for replacement of each affected part fitted on an affected HR.

For the reasons described above, this [EASA] AD retains the requirements of EASA AD 2016-0107, which is superseded, and requires the [identification and] replacement [and re-identification] of the affected parts.

You may examine the MCAI in the AD docket on the internet at http://www.regulations.gov by searching for and locating Docket No. FAA-2018-0704.

Relationship Between Proposed AD and AD 2017-01-08

This NPRM does not propose to supersede AD 2017-01-08. Rather, we have determined that a stand-alone AD is more appropriate to address the changes in the MCAI. This proposed AD would require identifying, replacing, and re-identifying affected HR PRVs. Accomplishing the proposed actions would then terminate all requirements of AD 2017-01-08.

Related Service Information Under 1 CFR Part 51

Airbus SAS has issued the following service information, which describes procedures for identifying HR part numbers. These documents are distinct since they apply to different airplane models.

• Service Bulletin A330-29-3134, dated August 16, 2017.

• Service Bulletin A340-29-4102, dated August 16, 2017.

Airbus SAS has also issued the following service information, which describes procedures for replacing and re-identifying affected PRVs and HRs. These documents are distinct since they apply to different airplane models.

• Service Bulletin A330-29-3131, dated August 11, 2017.

• Service Bulletin A330-29-3132, dated August 11, 2017.

• Service Bulletin A330-29-3133, dated August 11, 2017.

• Service Bulletin A340-29-4099, dated August 11. 2017.

• Service Bulletin A340-29-4100, dated August 11, 2017.

• Service Bulletin A340-29-4101, dated August 11, 2017.

• Service Bulletin A340-29-5026, dated August 11, 2017.

Safran has issued Vendor Service Bulletins 42-29-005, Revision 01, dated September 26, 2017, and 42-29-006, Revision 01, dated September 27, 2017. These documents are distinct since they apply to different airplane models. This service information describes procedures for replacing affected HR PRVs, and including the serial numbers of those PRVs.

This service information is reasonably available because the interested parties have access to it through their normal course of business or by the means identified in the ADDRESSES section.

FAA's Determination

This product has been approved by the aviation authority of another country, and is approved for operation in the United States. Pursuant to our bilateral agreement with the State of Design Authority, we have been notified of the unsafe condition described in the MCAI and service information referenced above. We are proposing this AD because we evaluated all the relevant information and determined the unsafe condition described previously is likely to exist or develop on other products of the same type design.

Proposed Requirements of This NPRM

This proposed AD would require accomplishing the actions specified in the service information described previously.

Costs of Compliance

We estimate that this proposed AD affects 103 airplanes of U.S. registry. We estimate the following costs to comply with this proposed AD:

Estimated Costs
Labor cost | Parts cost | Cost per product | Cost on U.S. operators
Up to 6 work-hours × $85 per hour = Up to $510 | $3,390 | Up to $3,900 | Up to $401,700

Authority for This Rulemaking

Title 49 of the United States Code specifies the FAA's authority to issue rules on aviation safety. Subtitle I, section 106, describes the authority of the FAA Administrator.

Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus SAS: Docket No. FAA-2018-0704; Product Identifier 2018-NM-066-AD.

(a) Comments Due Date

We must receive comments by September 17, 2018.

(b) Affected ADs

This AD affects AD 2017-01-08, Amendment 39-18775 (82 FR 1593, January 5, 2017) (“AD 2017-01-08”).

(c) Applicability

This AD applies to the airplanes identified in paragraphs (c)(1), (c)(2), (c)(3), (c)(4), (c)(5), and (c)(6) of this AD, certificated in any category, all manufacturer serial numbers.

(1) Airbus SAS Model A330-223F and -243F airplanes.

(2) Airbus SAS Model A330-201, -202, -203, -223, and -243 airplanes.

(3) Airbus SAS Model A330-301, -302, -303, -321, -322, -323, -341, -342, and -343 airplanes.

(4) Airbus SAS Model A340-211, -212, and -213 airplanes.

(5) Airbus SAS Model A340-311, -312, and -313 airplanes.

(6) Airbus SAS Model A340-541 and -642 airplanes.

(d) Subject

Air Transport Association (ATA) of America Code 29, Hydraulic power.

(e) Reason

This AD was prompted by reports of depressurization of hydraulic reservoirs caused by air leakage from the pressure relief valve (PRV) of the hydraulic reservoir (HR) due to the extrusion of the O-ring seal from certain HR PRVs. We are issuing this AD to address air leakage from the HR PRV, which could lead to the loss of one or more hydraulic systems, with the possible loss of control of the airplane.

(f) Compliance

Comply with this AD within the compliance times specified, unless already done.

(g) Definitions for This AD

(1) Affected HRs are identified in table 1 to paragraphs (g), (h), (i), and (j) of this AD.

(2) Affected PRVs are installed on affected HRs and have part number 42F0026 and a serial number identified in Safran Vendor Service Bulletins 42-29-005, Revision 01, dated September 26, 2017; and 42-29-006, Revision 01, dated September 27, 2017, as applicable.

(3) A Group 1 airplane has an affected PRV installed.

(4) A Group 2 airplane does not have any affected PRV installed. A Model A330 airplane on which Airbus SAS modifications 206863, 206864, and 206965 have been embodied in production is a Group 2 airplane, provided the airplane remains in that configuration.

(5) In table 1 to paragraphs (g), (h), (i), and (j) of this AD: Green hydraulic circuit is (G), blue hydraulic circuit is (B), and yellow hydraulic circuit is (Y).

(h) Part Number Inspection

At the applicable time specified in table 1 to paragraphs (g), (h), (i), and (j) of this AD, identify the HR part number, in accordance with Airbus Service Bulletin A330-29-3134, dated August 16, 2017; or Airbus Service Bulletin A340-29-4102, dated August 16, 2017; as applicable.

(i) Replacement

For Group 1 airplanes: At the applicable time specified in table 1 to paragraphs (g), (h), (i), and (j) of this AD, replace each affected PRV in accordance with the applicable service information specified in paragraphs (i)(1) through (i)(7) of this AD.

(1) Airbus Service Bulletin A330-29-3131, dated August 11, 2017.

(2) Airbus Service Bulletin A330-29-3132, dated August 11, 2017.

(3) Airbus Service Bulletin A330-29-3133, dated August 11, 2017.

(4) Airbus Service Bulletin A340-29-4099, dated August 11. 2017.

(5) Airbus Service Bulletin A340-29-4100, dated August 11, 2017.

(6) Airbus Service Bulletin A340-29-4101, dated August 11, 2017.

(7) Airbus Service Bulletin A340-29-5026, dated August 11, 2017.

(j) Part Re-identification

(1) For Group 1 airplanes: Concurrently with the PRV replacement required by paragraph (i) of this AD, re-identify the part numbers of affected HRs as specified in table 1 to paragraphs (g), (h), (i), and (j) of this AD, in accordance with the applicable service information specified in paragraphs (i)(1) through (i)(7) of this AD.

(2) For Group 2 airplanes: At the applicable time specified in table 1 to paragraphs (g), (h), (i), and (j) of this AD, re-identify the part numbers of affected PRVs and HRs, in accordance with the applicable service information specified in paragraphs (i)(1) through (i)(7) of this AD.

(k) Terminating Action

Replacement of all affected PRVs on an airplane, as required by paragraph (i) of this AD, terminates all requirements of AD 2017-01-08 for that airplane.

(l) Parts Installation Prohibition

(1) For Group 1 airplanes: After replacement of all affected parts as required by paragraph (i) of this AD, do not install any affected PRV.

(2) For Group 2 airplanes: As of the effective date of this AD, do not install any affected PRV.

(m) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Branch, send it to the attention of the person identified in paragraph (n)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the European Aviation Safety Agency (EASA); or Airbus SAS's EASA Design Organization Approval (DOA). If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(n) Related Information

(1) Refer to Mandatory Continuing Airworthiness Information (MCAI) EASA AD 2018-0064, dated March 23, 2018, for related information. This MCAI may be found in the AD docket on the internet at http://www.regulations.gov by searching for and locating Docket No. FAA-2018-0704.

(2) For more information about this AD, contact Vladimir Ulyanov, Aerospace Engineer, International Section, Transport Standards Branch, FAA, 2200 South 216th St., Des Moines, WA 98198; telephone and fax: 206-231-3229.

(3) For service information identified in this AD, contact Airbus SAS, Airworthiness Office—EAL, Rond Point Emile Dewoitine No: 2, 31700 Blagnac Cedex, France; telephone: +33 5 61 93 36 96; fax: +33 5 61 93 45 80; email: airworthiness.A330-A340@airbus.com; internet http://www.airbus.com. You may view this service information at the FAA, Transport Standards Branch, 2200 South 216th St., Des Moines, WA. For information on the availability of this material at the FAA, call 206-231-3195.

Issued in Des Moines, Washington, on July 25, 2018.
James Cashdollar,
Acting Director, System Oversight Division, Aircraft Certification Service.

[FR Doc. 2018-16574 Filed 8-2-18; 8:45 am]

BILLING CODE 4910-13-P